NATIONAL SCIENCE FOUNDATION

Notice of Workshop on Making Data Available for National Spectrum Management

AGENCY: Networking and Information Technology Research and Development (NITRD) National Coordination Office (NCO), National Science Foundation (NSF).

ACTION: Notice of workshop.

SUMMARY: The workshop on Making Data Available for National Spectrum Management will focus on identifying challenges associated with obtaining, disseminating, and using data about spectrum to support policy making, operations, and R&D with applications to spectrum sharing & optimization through improved analysis, modeling & prediction.

DATES: May 3-4, 2023.

ADDRESSES: The workshop on Making Data Available for National Spectrum Management will take place on May 3 and 4, from 8:30 a.m. to 5 p.m. (MT), at the NIST Boulder Labs in Boulder, CO.

Instructions: Due to space limitations, in-person attendance is by invitation only; remote participation will be available via webcast. The agenda, registration link, and webcast information will be available the week of the event at: https://www.nist.gov/news-events/events/2023/05/wsrd-workshop-making-data-available-national-spectrum-management.

FOR FURTHER INFORMATION CONTACT: Mallory Hinks at (202) 459-9674 or email wsrd-workshop-2023@nitrd.gov. Individuals who use a telecommunications device for the deaf (TDD) may call the Federal Information Relay Service (FIRS) at 1-800-877-8339 between 8 a.m. and 8 p.m., Eastern time, Monday through Friday.

SUPPLEMENTARY INFORMATION:

Overview. This notice is issued on behalf of the NITRD Wireless Spectrum Research and Development (WSRD) Interagency Working Group (IWG). Agencies of the WSRD IWG are conducting a workshop focused on the topic of making data available for national spectrum management.

Workshop sessions with invited speakers & panelists will discuss:

Data requirements for spectrum

Constraints and policy issues

Spectrum data collection

Spectrum data storage and dissemination

Workshop Objectives. Identify challenges associated with obtaining, disseminating, and using data about spectrum to support policy making, operations, and R&D with applications to spectrum sharing & optimization through improved analysis, modeling & prediction. Discuss ideas for resolution of these challenges through the action of researchers, industry, agencies, regulators, and/or legislators with potential inputs to R&D agency prioritization and the National Spectrum Strategy.

Submitted by the National Science Foundation in support of the Networking and Information Technology Research and Development (NITRD) National Coordination Office (NCO) on March 27, 2023.

Suzanne H. Plimpton,
Reports Clearance Officer, National Science Foundation.

[FR Doc. 2023-06640 Filed 3-29-23; 8:45 am]

BILLING CODE 7555-01-P